NUCLEAR REGULATORY COMMISSION

[Docket No. 50-416; NRC-2016-0008]

Entergy Nuclear Operations, Inc.; Grand Gulf Nuclear Station, Unit 1

AGENCY: Nuclear Regulato ry Commission.

ACTION: License amendment application; withdrawal by applicant.

SUMMARY: The U.S. Nuclear Regulatory Commission (NRC) has granted the request of Entergy Nuclear Operations, Inc. (Entergy, the licensee), to withdraw its application dated June 26, 2014, for a proposed amendment to Facility Operating License No. NPF-29, for the Grand Gulf Nuclear Station, Unit 1 (GGNS). The proposed amendment would have revised GGNS Technical Specifications (TSs) Surveillance Requirements (SRs) for safety-related battery resistances in TS SRs 3.8.4.2 and 3.8.4.5 for batteries 1A3, 1B3, and 1C3.

DATES: January 14, 2016.

ADDRESSES: Please refer to Docket ID NRC-2016-0008 when contacting the NRC about the availability of information regarding this document. You may obtain publicly-available information related to this document using any of the following methods:

• Federal Rulemaking Web site: Go to http://www.regulations.gov and search for Docket ID NRC-2016-0008. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James Kim, Office of Nuclear Reactor Regulation, U.S. Nuclear Regulatory Commission, Washington, DC 20555-0001; telephone: 301-415-4125; email: James.Kim@nrc.gov.

SUPPLEMENTARY INFORMATION: The NRC has granted the request of Entergy to withdraw its application dated June 26, 2014 (ADAMS Accession No. ML14177A270), for a proposed amendment to Facility Operating License No. NPF-29, for GGNS, located in Claiborne County, Mississippi. The proposed amendment would have revised safety-related battery resistances in GGNS TS SRs 3.8.4.2 and 3.8.4.5 for batteries 1A3, 1B3, and 1C3.

The NRC published a Biweekly Notice in the Federal Register on February 17, 2015 (80 FR 8360), that gave notice that this proposed amendment was under consideration by the NRC. However, by letter dated December 14, 2015 (ADAMS Accession No. ML15348A407), the licensee requested to withdraw the proposed amendment.

Dated at Rockville, Maryland, this 5th day of January 2016.
For the Nuclear Regulatory Commission.
Meena K. Khanna,
Chief, Plant Licensing Branch IV-2 and Decommissioning Transition Branch, Division of Operating Reactor Licensing, Office of Nuclear Reactor Regulation.

[FR Doc. 2016-00683 Filed 1-13-16; 8:45 am]

BILLING CODE 7590-01-P